DEPARTMENT OF TRANSPORTATION

Federal Aviation Administration

14 CFR Part 39

[Docket No. FAA-2013-0330; Directorate Identifier 2013-NM-051-AD; Amendment 39-17427; AD 2013-08-10]

RIN 2120-AA64

Airworthiness Directives; Kelowna Flightcraft R & D Ltd. Airplanes

AGENCY: Federal Aviation Administration (FAA), Department of Transportation (DOT).

ACTION: Final rule; request for comments.

SUMMARY: We are adopting a new airworthiness directive (AD) for certain Tracor (Convair) Model 340 and 440 airplanes and certain Military Model C-131B, C-131D, C-131E, and C131F/R4Y-1 airplanes. This AD requires repetitive inspections of the lower skin of the wings for cracking around the inboard side of the wing station (WS) 6 and 7 access panel doubler fingers and between stringers 5 and 11; repetitive inspections of the lower skin of the wings for cracking around stringers 6, 8, and 10, and around the WS 6 and WS 7 access panel doubler fingers; and repair if necessary. This AD was prompted by a report of a crack found on the lower skin of the right-hand wing between WS 5 and WS 6. We are issuing this AD to detect and correct fatigue cracking of the lower skin of the wings, which could result in reduced structural integrity of the wings.

DATES: This AD becomes effective May 10, 2013.

The Director of the Federal Register approved the incorporation by reference of a certain publication listed in the AD as of May 10, 2013.

We must receive comments on this AD by June 10, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Jeffrey Zimmer, Aerospace Engineer, Airframe and Mechanical Systems Branch, ANE-171, FAA, New York Aircraft Certification Office (ACO), 1600 Stewart Avenue, Suite 410, Westbury, NY 11590; telephone (516) 228-7306; fax (516) 794-5531; email: jeffrey.zimmer@faa.gov.

SUPPLEMENTARY INFORMATION:

Discussion

Transport Canada Civil Aviation (TCCA), which is the aviation authority for Canada, has issued Canadian Emergency Airworthiness Directive CF-2013-04, dated February 14, 2013 (referred to after this as the Mandatory Continuing Airworthiness Information, or “the MCAI”), to correct an unsafe condition for the specified products. The MCAI states:

While performing a corrosion inspection of the wing internal structures, an operator discovered a crack of significant length between Wing Station (WS) 5 and 6, on the right hand wing lower skin of a Convair 580 aeroplane. Although an investigation is still ongoing to determine the cause, the crack appears to originate from a fastener located at the wing skin to wing access door doubler attachment.

Previous repetitive external inspections of the wing lower skin in accordance with Structurally Significant Detail (SSD) 57-1-4, that was mandated by FAA AD 92-06-06, [Amendment 39-8186 (57 FR 9382, March 18, 1992)], did not detect the crack because the location of the crack is covered by the nacelle drag angle.

Cracking of the wing lower skin at a fatigue critical area, if not detected, could compromise the structural integrity of the wing. This [TCCA] AD mandates internal visual and eddy current inspections to detect cracking of the wing lower skin to mitigate this unsafe condition. Transport Canada may mandate additional corrective actions [repair] pending the outcome of the failure investigation and fleet findings.

The visual and eddy current inspections mandated by this [TCCA] AD are considered as Alternative Means of Compliance (AMOC) to the SSD 57-1-4 inspection that was mandated by FAA AD 92-06-06, for the locations addressed by the visual and eddy current inspections.

Corrective action includes repairing any cracking of the lower skin of the wings. You may obtain further information by examining the MCAI in the AD docket.

Relevant Service Information

Kelowna Flightcraft Ltd. has issued Service Bulletin 340-57-001, dated February 12, 2013. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

The MCAI and Kelowna Flightcraft Service Bulletin 340-57-001, dated February 12, 2013, specify that operators with a damage rate factor (DRF) must divide 1,000 flight hours by their DRF to get the repetitive inspection interval. However, there are no U.S.-registered airplanes that have a DRF; therefore, this AD requires that the repetitive inspections be done at intervals not to exceed 1,000 flight hours.

The MCAI and Kelowna Flightcraft Service Bulletin 340-57-001, dated February 12, 2013, do not contain instructions to repair certain cracking conditions; however, this AD requires repairing those conditions using a method approved by either the Manager, New York Aircraft Certification Office (ACO), FAA; or TCCA (or its delegated agent).

FAA's Determination of the Effective Date

An unsafe condition exists that requires the immediate adoption of this AD. The FAA has found that the risk to the flying public justifies waiving notice and comment prior to adoption of this rule based on the manufacturer's engineering analysis of the structural failure condition and flight hours/cycles on the affected fleet, which showed that certain areas of the lower skin of the wings must be inspected for fatigue cracking. Such fatigue cracking could result in reduced structural integrity of the wings. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0330; Directorate Identifier 2013-NM-051-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 70 products of U.S. registry. We also estimate that it will take about 6 work-hours per product to comply with the basic requirements of this AD. The average labor rate is $85 per work-hour. Based on these figures, we estimate the cost of this AD to the U.S. operators to be $35,700, or $510 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-08-10 Kelowna Flightcraft R & D Ltd.: Amendment 39-17427. Docket No. FAA-2013-0330; Directorate Identifier 2013-NM-051-AD.

(a) Effective Date

This airworthiness directive (AD) becomes effective May 10, 2013.

(b) Affected ADs

None.

(c) Applicability

This AD applies to Tracor (Convair) Model 340 and 440 airplanes, including airplanes modified by Supplemental Type Certificates (STC) SA1096WE http://rgl.faa.gov/Regulatory_and_Guidance_Library/rgstc.nsf/0/BAB5BE3241FF1FD085256CC10080DDDC?OpenDocument&Highlight=sa1096we (commonly referred to as Model 640 airplanes), STC SA6088NM http://rgl.faa.gov/Regulatory_and_Guidance_Library/rgstc.nsf/0/BEFFE27E85EAFF9186257714007C8B4B?OpenDocument&Highlight=sa6088nm (commonly referred to as Model 5800 airplanes), and STC SA4-1100 http://rgl.faa.gov/Regulatory_and_Guidance_Library/rgstc.nsf/0/AFD81364EE6A3EAC85256CC2000C5CC2?OpenDocument&Highlight=sa4-1100 (commonly referred to as Model 580 airplanes) and Military Model C-131B, C-131D, C-131E, and C131F/R4Y-1 airplanes; certificated in any category.

(d) Subject

Air Transport Association (ATA) of America Code 57, Wings.

(e) Reason

This AD was prompted by a report of a crack found on the lower skin of the right-hand (RH) wing between wing station (WS) 5 and 6. We are issuing this AD to detect and correct fatigue cracking of the lower skin of the wings, which could result in reduced structural integrity of the wings.

(f) Compliance

You are responsible for having the actions required by this AD performed within the compliance times specified, unless the actions have already been done.

(g) Repetitive Detailed Inspections

Within 20 flight hours after the effective date of this AD: Do a one-time detailed inspection for cracking of the lower skin of the left-hand (LH) and RH wings around the inboard side of the WS 6 and WS 7 access panel doubler fingers and between stringers 5 and 11, in accordance with the Accomplishment Instructions of Kelowna Flightcraft Service Bulletin 340-57-001, dated February 12, 2013. Repeat the inspection thereafter at intervals not to exceed 1,000 flight hours.

(h) Repetitive Eddy Current Inspections

Within 100 flight hours after the effective date of this AD: Do an eddy current inspection for cracking of the lower skin of the LH and RH wings for cracking around stringers 6, 8, and 10, and around the WS 6 and WS 7 access panel doubler fingers, in accordance with the Accomplishment Instructions of Kelowna Flightcraft Service Bulletin 340-57-001, dated February 12, 2013. Repeat the inspection thereafter at intervals not to exceed 1,000 flight hours.

(i) Repair

If any cracking is found during any inspection required by paragraph (g) or (h) of this AD: Before further flight, repair using a method approved by either the Manager, New York Aircraft Certification Office (ACO), FAA; or Transport Canada Civil Aviation (TCCA) (or its delegated agent).

(j) Method of Compliance

The inspections required by this AD are approved as a method of compliance to the structurally significant detail (SSD) 57-1-4 inspection required by AD 92-06-06, Amendment 39-8186 (57 FR 9382, March 18, 1992), for only the locations addressed by the detailed and eddy current inspections specified in paragraphs (g) and (h) of this AD. Inspections at all other locations addressed by SSD 57-1-4 remain applicable.

(k) Reporting

Submit a report of the findings (both positive and negative) of each inspection required by paragraphs (g) and (h) of this AD to Kelowna Flightcraft Convair Division, 5655 Airport Way, Kelowna, Canada BC, V1V 1S1; telephone (250) 807-5416; fax (250) 765-7140; email matt_palmberg@flghtcraft.ca; at the applicable time specified in paragraph (k)(1) or (k)(2) of this AD.

(1) If the inspection was done on or after the effective date of this AD: Submit the report within 30 days after the inspection.

(2) If the inspection was done before the effective date of this AD: Submit the report within 30 days after the effective date of this AD.

(l) Other FAA AD Provisions

The following provisions also apply to this AD:

(1) Alternative Methods of Compliance (AMOCs): The Manager, New York ACO, FAA, has the authority to approve AMOCs for this AD, if requested using the procedures found in 14 CFR 39.19. In accordance with 14 CFR 39.19, send your request to your principal inspector or local Flight Standards District Office, as appropriate. If sending information directly to the ACO send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

Refer to Mandatory Continuing Airworthiness Information (MCAI) Canadian Emergency Airworthiness Directive CF-2013-04, dated February 14, 2013; and Kelowna Flightcraft Service Bulletin 340-57-001, dated February 12, 2013; for related information.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Kelowna Flightcraft Service Bulletin 340-57-001, dated February 12, 2013.

(ii) Reserved.

(3) For service information identified in this AD, contact Kelowna Flightcraft Ltd., 5655 Airport Way, Kelowna, BC Canada, V1V 1S1; telephone (250) 807-5416; fax (250) 765-7140; Internet http://www.flightcraft.ca/convair.asp.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 8, 2013.
Ali Bahrami,
Manager, Transport Airplane Directorate, Aircraft Certification Service.

[FR Doc. 2013-08987 Filed 4-24-13; 8:45 am]

BILLING CODE 4910-13-P